Title 3—

The President

Executive Order 14020 of March 8, 2021

Establishment of the White House Gender Policy Council

By the authority vested in me as President by the Constitution and the laws of the United States of America, it is hereby ordered as follows:

Section 1. Policy. Advancing gender equity and equality is a matter of human rights, justice, and fairness. It is also a strategic imperative that reduces poverty and promotes economic growth, increases access to education, improves health outcomes, advances political stability, and fosters democracy. The full participation of all people—including women and girls—across all aspects of our society is essential to the economic well-being, health, and security of our Nation and of the world.

It is therefore the policy of my Administration to establish and pursue a comprehensive approach to ensure that the Federal Government is working to advance equal rights and opportunities, regardless of gender or gender identity, in advancing domestic and foreign policy—including by promoting workplace diversity, fairness, and inclusion across the Federal workforce and military. This order is intended to advance gender equity and equality, with sensitivity to the experiences of those who suffer discrimination based on multiple factors, including membership in an underserved community.

Sec. 2. The White House Gender Policy Council. (a) There is established a White House Gender Policy Council (Council) within the Executive Office of the President.

(b) The Council shall coordinate Federal Government efforts to advance gender equity and equality, including policies and programs to:

(i) combat systemic biases and discrimination, including sexual harassment, and to support women's human rights;

(ii) increase economic security and opportunity by addressing the structural barriers to women's participation in the labor force and by decreasing wage and wealth gaps;

(iii) address the caregiving needs of American families and support the care-workers they depend upon;

(iv) support gender equity and combat gender stereotypes in education, including promoting participation in science, technology, engineering, and math (STEM) fields;

(v) promote gender equity in leadership;

(vi) increase access to comprehensive health care, address health disparities, and promote sexual and reproductive health and rights;

(vii) empower girls;

(viii) prevent and respond to all forms of gender-based violence;

(ix) address responses to the effects of the coronavirus disease 2019 (COVID-19) on women and girls, especially those related to health, gender-based violence, educational access and attainment, and economic status;

(x) advance gender equality globally through diplomacy, development, trade, and defense;

(xi) implement United States Government commitments to women's involvement in peace and security efforts; and

(xii) recognize the needs and contributions of women and girls in humanitarian crises and in development assistance.

(c) The Council shall work across executive departments and agencies (agencies) to advance gender equity and equality and provide a coordinated Federal response on issues that have a distinct impact on gender equity and equality. The Council shall also work with each agency to ensure that agency operations are conducted in a manner that promotes gender equity and equality, to the extent permitted by law.

(d) The Council shall provide legislative and policy recommendations to the President, evaluate other proposed policies and legislation for their potential impact on issues of gender equity and equality, propose improvement in the collection of data related to gender and gender identity, and suggest changes to Federal programs or policies to address issues of significance to women and girls.

(e) The Council shall, consistent with applicable law, conduct outreach with, and consider ways to increase coordination, communication, and engagement with, representatives of a diverse range of nonprofit and community-based organizations, civil society groups, and faith-based organizations; State, local, Tribal and territorial government officials; labor unions and worker organizations; private sector representatives; foreign government officials; multilateral organizations; and other interested persons who can inform the Council's work.

(f) The Council shall be led by two Co-Chairs designated by the President, one of whom shall also serve as the Executive Director of the Council (Executive Director). The Council staff shall also include a Special Assistant to the President and Senior Advisor on Gender-Based Violence and other sufficient staff as may be necessary to carry out the provisions of this order.

(g) In addition to the Co-Chairs, the Council shall consist of the following members:

(i) the Secretary of State;

(ii) the Secretary of the Treasury;

(iii) the Secretary of Defense;

(iv) the Attorney General;

(v) the Secretary of the Interior;

(vi) the Secretary of Agriculture;

(vii) the Secretary of Commerce;

(viii) the Secretary of Labor;

(ix) the Secretary of Health and Human Services;

(x) the Secretary of Housing and Urban Development;

(xi) the Secretary of Transportation;

(xii) the Secretary of Energy;

(xiii) the Secretary of Education;

(xiv) the Secretary of Veterans Affairs;

(xv) the Secretary of Homeland Security;

(xvi) the Administrator of the Environmental Protection Agency;

(xvii) the Director of the Office of Management and Budget;

(xviii) the United States Trade Representative;

(xix) the Administrator of the Small Business Administration;

(xx) the Director of National Intelligence;

(xxi) the Representative of the United States of America to the United Nations;

(xxii) the Director of the Office of Science and Technology Policy;

(xxiii) the Assistant to the President for National Security Affairs;

(xxiv) the Assistant to the President for Domestic Policy;

(xxv) the Assistant to the President for Economic Policy;

(xxvi) the Assistant to the President on National Climate;

(xxvii) the Assistant to the President on COVID-19 Response;

(xxviii) the Chief of Staff to the Vice President;

(xxix) the Chair of the Council of Economic Advisers;

(xxx) the Chair of the Council on Environmental Quality;

(xxxi) the Director of the National Science Foundation;

(xxxii) the Administrator of General Services;

(xxxiii) the Administrator of the National Aeronautics and Space Administration;

(xxxiv) the Chair of the Equal Employment Opportunity Commission;

(xxxv) the Administrator of the United States Agency for International Development;

(xxxvi) the Director of the Office of Personnel Management; and

(xxxvii) the heads of such other agencies and offices as the Co-Chairs may from time to time invite to participate.

(h) Members of the Council shall designate, within 30 days of the date of this order, a senior official within their respective agency or office who shall coordinate with the Council and who shall be responsible for overseeing the agency's or office's efforts to advance gender equity and equality. The Director of National Intelligence shall designate a National Intelligence Officer for Gender Equality, who shall coordinate intelligence support for the Council's work on issues implicating national security. The Co-Chairs may coordinate subgroups consisting exclusively of Council members or their designees under this section, as appropriate.

(i) Each agency shall bear its own expenses for participating in the Council.

Sec. 3. Government-Wide Strategy to Advance Gender Equity and Equality. (a) Within 200 days of the date of this order, the Council, after coordination by the Co-Chairs, shall develop and submit to the President a Government-wide strategy for advancing gender equity and equality in the United States and, when applicable, around the world (the “Strategy”). The Strategy should include recommendations on policies, programs, and initiatives that should be proposed, passed, or implemented to advance gender equity and equality in the United States and around the world.

(b) Recognizing the gender and racial disparities that COVID-19 has both magnified and exacerbated, in formulating its recommendations to address the effects of the COVID-19 pandemic and related economic disruption on women and girls, the Council shall coordinate with the White House Office of the COVID-19 Response and the COVID-19 Health Equity Task Force, established by section 2 of Executive Order 13995 of January 21, 2021 (Ensuring an Equitable Pandemic Response and Recovery).

(c) In developing the Strategy, the Council shall consider the unique experiences and needs of women and girls who are also members of other underserved communities. In implementing this approach, the Council shall work closely with the Domestic Policy Council, which coordinates the interagency, whole-of-government strategy for advancing equity, as set forth in Executive Order 13985 of January 20, 2021 (Advancing Racial Equity and Support for Underserved Communities Through the Federal Government).

Sec. 4. Implementation. (a) After the Strategy has been submitted to the President, the heads of agencies, or their designees, shall, in consultation with the Council and the Office of Management and Budget (OMB), select certain of their respective agency's programs and policies for review for consistency with the Strategy. As appropriate and consistent with law, the heads of agencies shall suspend, revise, or rescind, or publish for notice and comment proposed rules suspending, revising, or rescinding, any directives, orders, regulations, policies, or guidance inconsistent with the Strategy. As appropriate, the heads of agencies shall consult with the Attorney General to the extent that any proposed actions require consultation or review under Executive Order 12250 of November 2, 1980 (Leadership and Coordination of Nondiscrimination Laws). As part of its review, the Administrator of the United States Agency for International Development shall, as appropriate and consistent with law, review the 2020 Gender Equality and Women's Empowerment Policy and revise or rescind it as appropriate.

(b) The Council shall coordinate a comprehensive, interagency response to gender-based violence at home and abroad, including intervention, prevention, and public health strategies to reduce incidence and impacts. The Special Assistant to the President and Senior Advisor on Gender-Based Violence, working with the Executive Director, shall create a National Action Plan to End Gender-Based Violence that establishes a Government-wide approach to preventing and addressing gender-based violence in the United States and shall work, in conjunction with the Assistant to the President for National Security Affairs, to lead a comprehensive, interagency review and update of the 2016 United States Strategy to Prevent and Respond to Gender-Based Violence Globally, as appropriate and consistent with law.

(c) Following the submission of the Strategy developed pursuant to section 3 of this order, the heads of agencies shall report to the Council semi-annually, and the Council shall prepare an annual report for submission to the President—a version of which shall be made public—on progress made in implementing the Strategy.

(d) The Council shall coordinate with the Domestic Policy Council, OMB, and other agencies and offices to advance my Administration's efforts to achieve greater equity as set forth in Executive Order 13985. In particular, among other things, the Council shall coordinate with the Interagency Working Group on Equitable Data, established in section 9 of Executive Order 13985.

(e) The Council shall coordinate with the National Security Council on all issues related to gender equality globally, including women's economic participation, health, and involvement in peace and security efforts.

(f) Consistent with section 6 of Executive Order 13985, the Director of OMB shall identify opportunities to promote gender equity and equality in the budget that the President submits to the Congress.

(g) The heads of agencies, interagency working groups, and task forces shall assist and provide information to the Council, as appropriate and consistent with applicable law, as may be helpful to carry out the functions of the Council.

Sec. 5. Termination. The Working Group created by section 2 of the Presidential Memorandum of February 7, 2019 (Promoting Women's Global Development and Prosperity) (NSPM-16), is terminated. NSPM-16 is amended by substituting, in section 3(e), “the Council” for “the Working Group”.

Sec. 6. Definitions. (a) The term “equity” means the consistent and systematic fair, just, and impartial treatment of all individuals, including individuals who belong to underserved communities that have been denied such treatment, such as women and girls; Black, Latino, and Indigenous and Native American persons, Asian Americans and Pacific Islanders, and other persons of color; members of religious minorities; lesbian, gay, bisexual, transgender, and queer (LGBTQ+) persons; persons with disabilities; persons who live in rural areas; and persons otherwise adversely affected by persistent poverty or inequality.

(b) The term “underserved communities” refers to populations sharing a particular characteristic, as well as geographic communities, that have been systematically denied a full opportunity to participate in aspects of economic, social, and civic life, as exemplified by the list in the preceding definition of “equity.”

Sec. 7. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

March 8, 2021.

[FR Doc. 2021-05183

Filed 3-10-21; 8:45 am]

Billing code 3295-F1-P